DEPARTMENT OF THE INTERIOR

National Park Service

[NPS-WASO-NAGPRA-NPS0030224; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Southern Methodist University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains associated funerary objects should submit a written request with information in support of the request to the Department of Anthropology, Southern Methodist University at the address in this notice by June 29, 2020.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains and associated funerary objects under the control of the Department of Anthropology, Southern Methodist University, Dallas, TX. The human remains and associated funerary objects were removed from Henderson County, TX; Wood County, TX; Red River County, TX; and Sabine and De Soto Parishes, LA.

This notice is published as part of the National Park Service's administrative responsibilities under NAGPRA, 25 U.S.C. 3003(d)(3). The determinations in this notice are the sole responsibility of the museum, institution, or Federal agency that has control of the Native American human remains and associated funerary objects The National Park Service is not responsible for the determinations in this notice.

Consultation

A detailed assessment of the human remains was made by the Department of Anthropology, Southern Methodist University professional staff in consultation with representatives of the Caddo Nation of Oklahoma.

History and Description of the Remains

At an unknown date, human remains representing, at minimum, three individuals were removed from Henderson County, TX. The human remains from this collection include 21 long bone fragments, one vertebra, and one metatarsal. The human remains were found with four chert bifaces and a projectile point of Cuney type (Turner et al. 2011). The age and cultural affiliations of the human remains are based on the projectile point, as no further contextual evidence is available. These cultural items are part of the Harper collection, which was donated by an avocational archeologist to Southern Methodist University (SMU) in 1967. The only provenience information provided for the human remains from the Harper collection is “HE5”. Based on comparable provenience information for the other items he donated, it appears that Harper employed his own numbering system, together with a county abbreviation, to identify each site from which he removed particular items. The current Texas county with the designation “HE” is Henderson County. No known individuals were identified. The five associated funerary objects are four chert bifaces and one projectile point.

Between 1975 and 1979, human remains and associated funerary objects were removed during excavations undertaken by SMU ahead of construction of the Lake Fork Reservoir, in Wood County, TX. Although the primary objective of these excavations was to identify and preserve sites ahead of reservoir construction, artifact analysis was used to identify settlement patterns. Human remains were found at four sites—the Osborne Site, the Spoonbill Site, the Sandhill Site, and the Yantis Site.

Human remains representing, at minimum, one individual were removed from the Osborne Site (X41WD16/41WD73). Burial 1 contained cranial fragments, five tarsal and metatarsal fragments, and highly fragmentary long bone sections. No known individuals were identified. No associated funerary objects are present.

Human remains representing, at minimum, one individual were removed from the Spoonbill Site (X41WD109/41WD518). Burial 3 contained nearly complete cranial fragments, though no maxillary or mandibular structures survived. Only fragments of the post-cranial remains were excavated; they are still encased in soil. No known individuals were identified. The seven associated funerary objects are ceramic vessels.

Human remains representing, at minimum, one individual were removed from the Sandhill Site (X41WD108). As Burial 1 was badly deteriorated, only a few long bone fragments were excavated; they remain encased in soil. No known individuals were identified. The four associated funerary objects are ceramic vessels.

Human remains representing, at minimum, one individual were removed from the Yantis Site (X41WD27/41WD45). Burial 3 has few records associated with it beyond a note from Bob D. Skiles, an avocational archeologist who worked in the area. Fragments of a skull are encased in a limestone or plaster substance, so it is not possible to determine the extent to which the human remains are preserved. No known individuals were identified. No associated funerary objects are present.

In 1968, human remains representing, at minimum, 63 individuals were removed from the Sam Kaufman Site in Red River County, TX. Excavations funded by the National Park Service and conducted by Alan Skinner, an ARP Principle Investigator affiliated with SMU, were conducted in order to study the site before it was destroyed by flooding of the nearby Red River. Burial 1 is an adult of unknown age and sex; the human remains are extremely fragmentary. Burial 2 is an eight-year-old child of unknown sex. Burial 3 is an adult between 36-50 years old and likely female. Burial 4 is 50+ year-old male. Burial 5 is an adult female of unknown age range and exhibits arthritic lipping on the lower thoracic vertebrae. Burial 6 is 36-50 years old, likely female, and exhibits periostitis on the ulnae, radii, and tibiae. Burial 7 is an adult whose sex and age range is indeterminate. Burial 8 is a 36-50 year-old female, and exhibits arthritic lipping on lower thoracic vertebrae. Burial 9 has an unknown sex and age range. Skeletons 6 through 9 are part of the multiple burial feature. Skeleton 6 is a 36-50 year-old female. Skeleton 7 is 36-50 years-old and likely female. Skeleton 8 is a 36-50 year-old female. Skeleton 9 is a 19-35 year-old female. Skeletons 10 through 20 are part of the shaft burial feature. Skeleton 10 is a 13-14 year-old of indeterminate sex. Skeleton 11 is a 36-50 year-old male. Skeleton 12 is a 17-18 year-old and likely male. Skeleton 13 is a 36-50 year-old female. Skeleton 14 is a 36-50 year-old male. Skeleton 15 is a 36-50 year-old female exhibiting a green stain on the mastoid area of the left temporal bone. Skeleton 16 is a 36-50 year-old male, and exhibits some evidence of arthritic lipping and a green stain above the external auditory meatus. Skeleton 17 is a 36-50 year-old male. Skeleton 18 is a 36-50 year-old male. Skeleton 19 is a female, likely between 19-35 years old. Skeleton 20 is a 36-50 year-old male, and exhibits a thickened diploe layer on a cranial bone. The remaining 40 individuals are represented by one or a few skeletal elements. Their sex and age are unknown. No known individuals were identified. The 1,032 associated funerary objects are 12 individual and two lots of faunal bone, 42 stones, 111 individual and one lot of sherds, two pollen samples, 77 reconstructed pots, 652 beads, 64 individual and two lots of shell, 46 projectile points, seven lithic artifacts, one lot of dirt, five gorgets, onet copper sheet, two pipes, one red pigment, one green pigment, two celts, and one unknown artifact.

The Sam Kaufman Site is estimated by Alan Skinner, to date to the McCurtain phase (A.D. 1300-1700), i.e. the Caddo II (A.D. 1200-1400), Caddo III (A.D. 1400-1500), and Caddo IV (A.D. 1500-2700) periods. Pottery types found at this site are affiliated with the Caddo Nation of Oklahoma. The published report affiliates this site with the ancestral Caddo. The Caddo Nation of Oklahoma claims Red River County, TX, as an area of interest.

In 1966, human remains representing, at minimum, 12 individuals were removed from the Bison B Site (16SA4) in Sabine Parish, LA, by Principal Investigator Ned Woodall. The individuals from the Bison B Site (16SA4) are referred to by feature number. Feature 2 is an adolescent male 10-19 years old. Feature 4 is an adult male 20-50 years old. Feature 5 is an adolescent 10-19 years old, whose sex is indeterminate due to the fragmentary nature of the human remains. Features 6A and 6B were commingled; 6A is an adult 20-50 years old of indeterminate sex, and 6B is a child 1-10 years old of indeterminate sex. Feature 7 is an adult male 20-50 years old. Feature 8 is an adult female 20-50 years old. Feature 12 is an adult 20-50 years old of indeterminate sex due to the fragmentary nature of the human remains. Feature 14 is an adult female 20-50 years old. Feature 15 is an adolescent 10-19 years old of indeterminate sex. Feature 16 is a child 1-10 years old of indeterminate sex due to the fragmentary nature of the human remains. Feature 17 is an adult 20-50 years old of indeterminate sex. No known individuals were identified. The 143 associated objects are 29 projectile points, 66 vessels, one lump of clay, one biface, one pipe, one lot of yellow ochre pigment, one opossum mandible fragment, one fox squirrel faunal remains, 36 bone fragments, one sherd, one single-side notched dart point, one mussel shell, two ear spools, and one lot of green pigment.

In 1967-1968, human remains representing, at minimum, eight individuals were removed from site 16SA17 in Sabine Parish, LA, by James V. Sciscenti. Excavations funded by the National Park Service and conducted by the Archaeology Research Program affiliated with SMU prior to the inundation of the Toledo Bend Reservoir, on the border of Texas and Louisiana. Burial 1 is an adult 20-50 years old of indeterminate sex. Burial 2 is an adult 20-50 years old of indeterminate sex. Burial 3 is an adult male 20-50 years old. Burial 4 is an adult female 20-50 years old. Burial 5 is an adolescent 10-19 years old of indeterminate sex. Two cremations were found adjacent to one another in small, circular pits. There is no identifying information for Cremation 1. Cremation 2 is an older adult 50+ years old. A single finger bone from Lot 8-3 represents an adult of indeterminate sex. No known individuals were identified. No associated funerary objects are present.

In 1966, human remains representing, at minimum, one individual were removed from the James Pace Site (16DS10) in De Soto Parish, LA, by Harold P. Jensen. Burial 1 is an adult 20-50 years old of indeterminate sex due to the poor preservation of the human remains. No known individuals were identified. No associated funerary objects are present.

The Toledo Bend sites are estimated to date to the Alto Focus (A.D. 900-1200). Pottery types found at this site are affiliated with the Caddo Nation of Oklahoma. The published report affiliates this site with the ancestral Caddo. The Caddo Nation of Oklahoma claim Sabine and De Soto Parishes, LA, as areas of interest.

Determinations Made by the Department of Anthropology, Southern Methodist University

Officials of the Department of Anthropology, Southern Methodist University have determined that:

• Pursuant to 25 U.S.C. 3001(9), the human remains described in this notice represent the physical remains of 91 individuals of Native American ancestry.

• Pursuant to 25 U.S.C. 3001(3)(A), the 1,191 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian Tribe or Native Hawaiian organization not identified in this notice that wish to request transfer of control of these human remains and associated funerary objects should submit a written request with information in support of the request to B. Sunday Eiselt, Department of Anthropology, Southern Methodist University, 3225 Daniel Avenue, Heroy Hall #450, Dallas, TX 75205, telephone (214) 768-2915, email seiselt@smu.edu, by June 29, 2020. After that date, if no additional requestors have come forward, transfer of control of the human remains and associated funerary objects to the Caddo Nation of Oklahoma may proceed.

The Department of Anthropology, Southern Methodist University is responsible for notifying the Caddo Nation of Oklahoma that this notice has been published.

Dated: April 21, 2020.
Melanie O'Brien,
Manager, National NAGPRA Program.

[FR Doc. 2020-11567 Filed 5-28-20; 8:45 am]

BILLING CODE 4312-52-P